INTERNATIONAL TRADE COMMISSION

Sunshine Act Meeting

Agency Holding the Meeting: United States International Trade Commission.

Time and Date: October 12, 2001 at 11 a.m.

Place: Room 101, 500 E Street SW., Washington, DC 20436, Telephone: (202) 205-2000.

Status: Open to the public.

Matters to be Considered:

1. Agenda for future meeting: none

2. Minutes

3. Ratification List

4. Inv. Nos. 701-TA-417-421 and 731-TA-953-963 (Preliminary) (Carbon and Alloy Steel Wire Rod from Brazil, Canada, Egypt, Germany, Indonesia, Mexico, Moldova, South Africa, Trinidad and Tobago, Turkey, Ukraine, and Venezuela)—briefing and vote. (The Commission is currently scheduled to transmit its determination to the Secretary of Commerce on October 15, 2001; Commissioners' opinions are currently scheduled to be transmitted to the Secretary of Commerce on November 2, 2001.)

5. Outstanding action jackets: none

In accordance with Commission policy, subject matter listed above, not disposed of at the scheduled meeting, may be carried over to the agenda of the following meeting.

Issued: October 3, 2001.
By order of the Commission.
Donna R. Koehnke,
Secretary.

[FR Doc. 01-25304 Filed 10-3-01; 3:11 pm]

BILLING CODE 7020-02-M